DEPARTMENT OF ENERGY

Federal Energy Regulatory Commission

Combined Notice of Filings #4

Take notice that the Commission received the following electric rate filings:

Docket Numbers: ER10-1910-022; ER10-1911-022.

Applicants: Duquesne Power, LLC, Duquesne Light Company.

Description: Notice of Change in Status of Duquesne Light Company, et al.

Filed Date: 3/3/22.

Accession Number: 20220303-5232.

Comment Date: 5 p.m. ET 3/24/22.

Docket Numbers: ER10-2381-010; ER11-2206-011; ER11-2207-011; ER11-2209-011; ER11-2210-011; ER11-2211-011; ER11-2855-025; ER11-2856-025; ER11-2857-025; ER11-3727-017; ER12-21-023; ER12-1711-017; ER13-1150-009; ER13-1151-009; ER13-1991-020; ER13-1992-020; ER18-814-002; ER19-672-002; ER19-843-002; ER19-1061-002; ER19-1063-002; ER19-1200-004; ER20-486-002.

Applicants: Golden Fields Solar III, LLC, Clearway Power Marketing LLC, Solar Borrego I LLC, Solar Alpine LLC, Solar Blythe LLC, Marsh Landing LLC, Carlsbad Energy Center LLC, Desert Sunlight 300, LLC, Desert Sunlight 250, LLC, Alta Wind XI, LLC, Alta Wind X, LLC, High Plains Ranch II, LLC, Agua Caliente Solar, LLC, El Segundo Energy Center LLC, Sun City Project LLC, Sand Drag LLC, Avenal Park LLC, Alta Wind I, LLC, Alta Wind III, LLC, Alta Wind II, LLC, Alta Wind IV, LLC, Alta Wind V, LLC, Walnut Creek Energy, LLC.

Description: Notice of Change in Status of Agua Caliente Solar, LLC, et al.

Filed Date: 3/3/22.

Accession Number: 20220303-5239.

Comment Date: 5 p.m. ET 3/24/22.

Docket Numbers: ER10-2405-011; ER10-2407-008; ER10-2424-008; ER10-2425-010; ER17-1316-006; ER18-1186-005; ER19-1280-003; ER19-2626-003; ER21-714-004.

Applicants: Indiana Crossroads Wind Farm LLC, Rosewater Wind Farm LLC, Broadlands Wind Farm LLC, Turtle Creek Wind Farm LLC, Quilt Block Wind Farm LLC, Pioneer Prairie Wind Farm I, LLC, Rail Splitter Wind Farm, LLC, Lost Lakes Wind Farm LLC, High Prairie Wind Farm II, LLC.

Description: Notice of Change in Status of Broadlands Wind Farm LLC, et al.

Filed Date: 3/3/22.

Accession Number: 20220303-5233.

Comment Date: 5 p.m. ET 3/24/22.

Docket Numbers: ER10-2428-000; ER10-2428-003.

Applicants: Wheat Field Wind Power Project LLC.

Description: Notice of Change in Status of Wheat Field Wind Power Project LLC.

Filed Date: 3/3/22.

Accession Number: 20220303-5234.

Comment Date: 5 p.m. ET 3/24/22.

Docket Numbers: ER10-2460-020; ER10-2461-021; ER12-682-021; ER13-17-019.

Applicants: Niagara Wind Power, LLC, Erie Wind, LLC, Canandaigua Power Partners II, LLC, Canandaigua Power Partners, LLC.

Description: Notice of Non-Material Change in Status of Canandaigua Power Partners, LLC, et al.

Filed Date: 3/3/22.

Accession Number: 20220303-5226.

Comment Date: 5 p.m. ET 3/24/22.

Docket Numbers: ER10-2474-025; ER10-2475-026; ER10-2984-054; ER10-3246-019; ER13-1266-037; ER15-2211-034.

Applicants: MidAmerican Energy Services, LLC, CalEnergy, LLC, PacifiCorp, Merrill Lynch Commodities, Inc., Nevada Power Company, Sierra Pacific Power Company.

Description: Notice of Non-Material Change in Status of Sierra Pacific Power Company, et al.

Filed Date: 3/3/22.

Accession Number: 20220303-5240.

Comment Date: 5 p.m. ET 3/24/22.

Docket Numbers: ER10-3275-005; ER18-213-003; ER19-1714-001; ER20-1106-002; ER20-2060-001.

Applicants: MPH Rockaway Peakers, LLC, Missisquoi, LLC, Pawtucket Power Associates Limited Partnership, Pittsfield Generating Company, L P, Capitol District Energy Center Cogeneration Associates.

Description: Notice of Non-Material Change in Status of Capitol District Energy Center Cogeneration Associates, et al.

Filed Date: 3/3/22.

Accession Number: 20220303-5236.

Comment Date: 5 p.m. ET 3/24/22.

Docket Numbers: ER15-2101-012; ER15-2582-011; ER10-1852-060; ER17-838-037; ER10-1951-040; ER11-4462-062.

Applicants: Carousel Wind Farm, LLC, Golden West Power Partners, LLC, Florida Power & Light Company, NextEra Energy Marketing, LLC, NextEra Energy Services Massachusetts, LLC, NEPM II, LLC.

Description: Notice of Change in Status of Golden West Power Partners, LLC, et al.

Filed Date: 3/3/22.

Accession Number: 20220303-5237.

Comment Date: 5 p.m. ET 3/24/22.

Docket Numbers: ER21-2293-004; ER10-1852-061; ER14-21-012; ER17-838-038; ER10-1951-041; ER11-4462-063.

Applicants: NEPM II, LLC, Gexa Energy L.L.C., NextEra Energy Marketing, LLC, Mountain View Solar, LLC, Florida Power & Light Company, Fish Springs Ranch Solar, LLC.

Description: Notice of Change in Status of Fish Springs Ranch Solar, LLC, et al.

Filed Date: 3/3/22.

Accession Number: 20220303-5238.

Comment Date: 5 p.m. ET 3/24/22.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 4, 2022.
Kimberly D. Bose,
Secretary.

[FR Doc. 2022-05049 Filed 3-9-22; 8:45 am]

BILLING CODE 6717-01-P